ENVIRONMENTAL PROTECTION AGENCY

[FRL-6983-7]

Notice of Availability for Public Review and Comment of the Continuing Planning Process (CPP) for the State of Missouri

AGENCY: Environmental Protection Agency (EPA).

ACTION: Notice of availability for public review and comment of the continuing planning process (CPP) for the State of Missouri.

SUMMARY: The Clean Water Act (the Act) at section 303(e) and EPA's implementing regulation at 40 CFR 130.5, require that each State shall establish and maintain a continuing planning process (CPP) consistent with the Act. Each State is responsible for managing it's water quality program to implement the processes specified in the CPP, and EPA is responsible for periodically reviewing the adequacy of the State's CPP. This document is being published in accordance with paragraph 3 of the settlement agreement in the matter of American Canoe Association, et al., v. EPA, No. 98-1195-CV-W-SOW-ECF Cons. with 98-4282-CV-W-SOW-ECF. Consistent with the settlement agreement, EPA is publishing this notice of availability of the CPP to interested parties. The current CPP in force for the Missouri Department of Natural Resources (MDNR) is the 58 page document entitled Continuing Planning Process dated May 1984. By November 27, 2001 EPA will prepare a preliminary written summary of its review of the CPP and will make that summary available upon request to interested parties for their review and comment. There will be a 60 day comment period following the completed summary. Copies of the CPP will be available beginning May 28, 2001 by contacting the person listed in the following FOR FURTHER INFORMATION CONTACT section. Once available, copies of EPA's preliminary written summary may also be requested.

Footnote—The Missouri Department of Natural Resources (MDNR) has acknowledged that the 1984 CPP needs updating. The MDNR 2000 Water Planning 604(b) grant contains a workplan element that calls for the review and revision of the current CPP, with a preliminary draft scheduled for May, 2001 and a final draft tentatively scheduled for submission to the Missouri Clean Water Commission in late 2001. This process is underway. When an official draft is made available by MDNR for public review, this office will likewise make it available for public review. EPA intends to review and comment on the draft.

FOR FURTHER INFORMATION CONTACT: Robert Steiert, Water, Wetlands and Pesticide Division, Geographic Planning and Coordination Branch at (913) 551-7433 or by E-mail at steiert.robert@epa.gov .

Dated: May 16, 2001,
Nat Scurry,
Acting Deputy Regional Administrator, Region VII.

[FR Doc. 01-13047 Filed 5-22-01; 8:45 am]

BILLING CODE 6560-50-P